DEPARTMENT OF JUSTICE

[OMB Number 1121-0030]

Agency Information Collection Activities; Proposed eCollection eComments Requested; Extension of a Currently Approved Collection: Capital Punishment Report of Inmates Under Sentence of Death

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until December 16, 2019.

FOR FURTHER INFORMATION CONTACT: If you have additional comments especially on the estimated public burden or associated response time, suggestions, or need a copy of the proposed information collection instrument with instructions or additional information, please contact Tracy L. Snell, Statistician, Bureau of Justice Statistics, 810 Seventh Street NW, Washington, DC 20531 (email: Tracy.L.Snell@usdoj.gov; telephone: 202-616-3288).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) The Title of the Form/Collection: Capital Punishment Report of Inmates Under Sentence of Death.

(3) The agency form number, if any, and the applicable component of the Department sponsoring the collection: Form numbers for the questionnaire are NPS-8 (Report of Inmates Under Sentence of Death; NPS-8A (Update Report of Inmates Under Sentence of Death); NPS-8B (Status of Death Penalty Statutes—No Statute in Force); and NPS-8C (Status of Death Penalty Statutes—Statute in Force). The applicable component within the Department of Justice is the Bureau of Justice Statistics, in the Office of Justice Programs.

(4) Affected public who will be asked or required to respond, as well as a brief abstract: Respondents will be staff from state departments of correction, state Attorneys General, and the Federal Bureau of Prisons. Staff responsible for keeping records on inmates under sentence of death in their jurisdiction and in their custody are asked to provide information for each individual under sentence of death for the following characteristics: Condemned inmates' demographic characteristics, legal status at the time of capital offense, capital offense for which imprisoned, number of death sentences imposed, criminal history information, reason for removal and current status if no longer under sentence of death, method of execution, and cause of death by means other than execution. Personnel in the offices of each Attorney General are asked to provide information regarding the status of death penalty laws and any changes to the laws enacted during the reference year. The Bureau of Justice Statistics uses this information in published reports and in responding to queries from the U.S. Congress, Executive Office of the President, the U.S. Supreme Court, state officials, international organizations, researchers, students, the media, and others interested in criminal justices statistics.

(5) An estimate of the total number of respondents and the amount of time estimated for an average respondent to respond: 46 responses at 30 minutes each for the NPS-8; 2,707 responses at 30 minutes for the NPS-8A; and 52 responses at 15 minutes each for the NPS-8B and NPS-8C. The 37 NPS-8/8A respondents and 52 NPS-8B/8C respondents have the option to provide responses using either paper or web-based questionnaires. The burden estimate is based on feedback from respondents in the most recent data collection.

(6) An estimate of the total public burden (in hours) associated with the collection: There is an estimated 1,525.5 total burden hours associated with this collection.

If additional information is required contact: Melody Braswell, Department Clearance Officer, United States Department of Justice, Justice Management Division, Policy and Planning Staff, Two Constitution Square, 145 N Street NE, 3E.405A, Washington, DC 20530.

Dated: October 10, 2019.
Melody Braswell,
Department Clearance Officer for PRA, U.S. Department of Justice.

[FR Doc. 2019-22491 Filed 10-15-19; 8:45 am]

BILLING CODE 4410-18-P